DEPARTMENT OF JUSTICE

Notice of Lodging of Consent Decree Under the Comprehensive Environmental Response, Compensation, and Liability Act

Notice is hereby given that on May 10, 2012, a proposed Consent Decree was lodged with the United States District Court for the District of Massachusetts in United States v. Bayer CropScience Inc. et al., Civil Action No. 1:12-cv-10847-WGY. In this action, the United States filed a complaint, also on May 10, 2012, under Section 107(a) of the Comprehensive Environmental Response, Compensation, and Liability Act, 42 U.S.C. 9607(a), alleging that Bayer CropScience Inc. and Pharmacia Corporation (“Settling Defendants”) are liable for damages for injury to, destruction of, or loss of natural resources, including the reasonable cost of assessing such injury, destruction, or loss, at the Industri-plex Superfund Site, located in Woburn, Massachusetts. The Commonwealth of Massachusetts filed a similar complaint on the same date. Commonwealth of Massachusetts v. Bayer CropScience Inc. et al., Civil Action No. 1:12-cv-10849. At the same time as it filed its complaint, the United States lodged a proposed Consent Decree, entered into by the United States, the Commonwealth of Massachusetts, and the Settling Defendants, which resolves those claims and which requires the Settling Defendants to (a) pay $3,812,127 to the Department of the Interior's Natural Resource Damage Assessment and Restoration Fund, to be used by the federal and state natural resource trustees to implement natural resource restoration projects and to reimburse their administrative costs associated with such projects, (b) pay $357,319 to the United States to reimburse the United States Department of the Interior for its assessment costs, (c) pay $42,815 to the United States to reimburse the National Oceanic and Atmospheric Administration for its assessment costs, and (d) pay $37,739 to the Commonwealth of Massachusetts to reimburse the Massachusetts Executive Office of Energy and Environmental Affairs for its assessment costs.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States v. Bayer CropScience Inc., D.J. Ref. 90-11-2-228/7. Comments may also be submitted by email to pubcomment-ees.enrd@usdoj.gov. A copy of the comments should be sent to Donald G. Frankel, Senior Counsel, Environmental Enforcement Section, Department of Justice, Suite 616, One Gateway Center, Newton, MA 02458 (donald.frankel@usdoj.gov).

During the public comment period, the Consent Decree may be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. In requesting a copy of the Consent Decree from the Consent Decree Library, please enclose a check in the amount of $5.50 (25 cents per page reproduction cost) payable to the U.S. Treasury (if the request is by fax or email, forward a check to the Consent Decree library at the address stated above).

Ronald G. Gluck,
Assistant Section Chief, Environmental Enforcement Section, Environment and Natural Resources Division.

[FR Doc. 2012-11907 Filed 5-16-12; 8:45 am]

BILLING CODE 4410-15-P